DEPARTMENT OF ENERGY

Federal Energy Regulatory Commission

[Docket No. EL14-2-000]

Duke Energy Progress, Inc.; Notice of Initiation of Proceeding and Refund Effective Date

On October 15, 2013, the Commission issued an order that initiated a proceeding in Docket No. EL14-2-000, pursuant to section 206 of the Federal Power Act (FPA), 16 U.S.C. 824e (2006), to determine the justness and reasonableness of the rate decrease proposed by Duke Energy Progress, Inc. Duke Energy Progress, Inc., 145 FERC ¶ 61,037 (2013).

The refund effective date in Docket No. EL14-2-000, established pursuant to section 206(b) of the FPA, will be the date of publication of this notice in the Federal Register.

Dated: October 16, 2013.
Nathaniel J. Davis, Sr.,
Deputy Secretary.

[FR Doc. 2013-24564 Filed 10-21-13; 8:45 am]

BILLING CODE 6717-01-P